NATIONAL SCIENCE FOUNDATION

Notice of Availability for Public Comment of the Draft Programmatic Environmental Impact Statement for the United States Implementing Organization's Participation in the Integrated Ocean Drilling Program

AGENCY: National Science Foundation.

ACTION: Notice of availability (NOA).

SUMMARY: The National Science Foundation (NSF) announces the availability for comment of the Draft Programmatic Environmental Impact Statement (EIS)/Oversees EIS (OEIS) evaluating potential environmental impacts associated with the NSF funding of the United States Implementing Organization's (USIO) participation in the Integrated Ocean Drilling Program (IODP). This EIS was prepared in accordance with requirements of the National Environmental Policy Act (NEPA) of 1969, regulations of the President's Council on Environmental Quality (40 CFR parts 1500 through 1508), and NSF's National Environmental Policy Act Implementing Procedures (45 CFR 640.1-640.5). The National Marine Fisheries Service (NMFS), a part of the National Oceanic and Atmospheric Administration (NOAA), is a cooperating agency in the preparation of the Programmatic EIS.

Public comments are invited and encouraged concerning the analysis of environmental issues associated with IODP-USIO activities as presented in the Draft Programmatic EIS/OEIS.

Addresses and Dates: Electronic copies of the Draft Programmatic EIS may be obtained from the Internet at http://joiserver.joiscience.org/Downloads/draft_peis. Written comments on the Draft EIS should be sent to Dr. James Allen, Program Director, Ocean Drilling Program, Division of Ocean Sciences, National Science Foundation, 4201 Wilson Boulevard, Suite 725, Arlington, VA 22230; voice (703) 292-8581 or e-mail at jallan@nsf.gov. If the draft Programmatic EIS cannot be obtained from the Internet, an electronic copy on CD or a paper copy may be obtained by e-mailing or writing Dr. Allan at the above address.

The public comment period starts with the publication of this Notice of Availability in the Federal Register and will continue for 45 days until October 1, 2007. NSF will address all comments received or postmarked by that date in the Final Programmatic EIS. Comments received or postmarked after that date will be considered to the extent practicable. Public meetings will provide the public with an opportunity to present comments, ask questions, and discuss concerns regarding the EIS with NSF officials. The public meetings will be held at NOAA, September 21, 2007, 2:30 p.m. to 6:30 p.m., Silver Spring Metro Center Building 4, Science Center, 1301 East-West Highway, Silver Spring, MD, and at Joint Oceanographic Institutions, Lobby Conference Center, 1201 New York Avenue, NW., Washington, DC, September 28, 2007, 1 p.m. to 5:30 p.m.

Written comments will be accepted at these public meetings as well as during the comment period.

FOR FURTHER INFORMATION CONTACT: Written statements and questions regarding the review process for the Draft Programmatic EIS should be submitted by mail to Dr. James Allan, Program Director, Ocean Drilling Program, Division of Ocean Sciences, National Science Foundation, 4201 Wilson Boulevard, Suite 725, Arlington, VA 22230; voice (703) 292-8581 or by e-mail at jallan@nsf.gov.

SUPPLEMENTARY INFORMATION: In 1975, the National Science Foundation (NSF) prepared an Environmental Impact Statement (EIS) on the International Phase of Ocean Drilling (IPOD) of the Deep Sea Drilling Project (DSDP). The 1975 EIS addressed scientific ocean drilling carried out globally in major and minor ocean basins.

In 1985, the NSF prepared an EIS for the new Ocean Drilling Program (ODP) to address the more complicated aspects of proposed drilling techniques and of drilling in high latitudes and Antarctic seas that were not previously addressed in the DSDP/IPOD EIS. Drilling modes that were analyzed in the DSDP/IPOD EIS were reviewed in the 1985 EIS including the use of the research vessel (RV) JOIDES Resolution. Additionally, aspects of drilling in deep-ocean trenches, on active spreading centers, and in or near environmentally sensitive regions were considered in the 1985 environmental review. Drilling in both DSDP/IPOD and ODP was riserless, where drill cuttings were typically removed from the borehole by pumped seawater without return circulation to the drillship via an external pipe or riser.

The ODP was formally completed on September 30, 2003. In order to facilitate the seamless continuation of research during the transition from the ODP to the Integrated Ocean Drilling Program (IODP), the JOIDES Resolution was selected as the platform to continue to conduct riserless drilling activities during Phase 1 of the USIO participation in the IODP. Environmental Assessments (EAs) were prepared in 2004 and 2005 to supplement the 1985 EIS and address the environmental and operating conditions that were specific to the IODP-USIO Phase 1 expeditions that would be performed during 2004 through 2006.

The IODP is an international research program that explores the history and structure of the earth as recorded in seafloor sediments, fluids, and rocks. IODP builds upon the earlier successes of the DSDP and the ODP, which revolutionized our view of Earth history and global processes through ocean basin exploration. IODP seeks to greatly expand the reach of these previous programs by forming a collaborative union between the United States, Japan, and the European Union, each of whom will be responsible for providing drilling platforms appropriate for achieving the scientific objectives outlined in the IODP Initial Science Plan. China and the interim Asian Consortium (South Korea) have joined as additional members. Based on international agreements, the United States is responsible for providing and operating a light, riserless drilling vessel, Japan will provide and operate a heavy, riser drilling-capable vessel, and a European-led consortium will provide and operate Mission Specific Platforms capable of drilling in shallow and Arctic environments unsuitable for the other drilling vessels.

Joint Oceanographic Institutions, Incorporated (JOI) and its partners, the Lamont-Doherty Earth Observatory of Columbia University (LDEO) and Texas A&M University (TAMU) through the Texas A&M Research Foundation (TAMRF), have been selected by NSF to be the IODP USIO for the light drilling vessel and related activities. These three partners comprise the JOI Alliance. JOI is responsible to NSF for the overall program leadership, technical, operational, and financial management, and delivery of services. TAMU is responsible for providing a full array of science services, ranging from vessel and drilling operations to ship- and shore-based science laboratories, core repositories, and publication. LDEO is responsible for logging-related shipboard and shore-based science services and for leading an international logging consortium to participate in scientific ocean drilling operations. The objectives of the USIO are to provide leadership regarding the U.S. interests in IODP as the challenges and demands of a multiplatform drilling program present themselves. The USIO also seeks to ensure that services for the light drilling vessel and other program aspects are provided in a cost-effective, holistic, and responsive manner to facilitate comprehensive, integrated, and flexible management that involves a broad array of stakeholders.

The JOI Alliance completed IODP Phase 1 operations in 2006 using the RV JOIDES Resolution, which is the same vessel used for two decades during ODP (1985-2003). Concurrent with Phase 1 activities (2004-2006), the JOI Alliance planned for Phase 2 operations, which required procuring and converting an appropriate ship into a Scientific Ocean Drilling Vessel (SODV). The RV JOIDES Resolution was selected as the SODV and will be completely modernized to serve as the IODP's light drilling vessel. This Programmatic EIS addresses the use of the SODV and the USIO's participation in IODP Phase 2 drilling operations for at least the next 20 years.

Depending upon the specific research objectives of each IODP USIO expedition, typical aspects of the proposed action that have the potential to affect the surrounding environment and are reviewed in the Programmatic EIS include:

Site Selection and Expedition Planning

• Review and evaluate research proposals (multi-phase, international process).

• Logistically prepare for expedition and schedule.

Vessel Deployment and Maximum Days at Sea per Expedition

• Transit from port call to expedition site; may require days or weeks of travel at a nominal speed of 10 knots (depending on sea conditions).

• Remain at sea for 60 days.

Number of Drill Sites and Boreholes

• One or more drill sites may be selected in a specific area for each expedition as needed to meet research objectives.

• One or more boreholes may be advanced at each drill site as needed to meet specific research objectives.

Typical Extent of Operations

• Water Depth (m) 75-7,000.

• Seafloor Penetration (m) 1-2,500.

Drilling and Casing Deployment

• Depending upon the specific application, drill bits will be advanced into the seafloor to produce nominally-sized boreholes 37.5, 44.5, 50.8, or 61 cm (14⅝, 17⅜, 20, 24 in) in diameter (alternate sized boreholes may be drilled as needed).

• Depending on the specific application, boreholes may be lined with 27.3, 34, 40, and 50.8 cm (10⅝, 13⅜, 16, 20 in) casings (alternate size casing may be installed as needed).

Core Sampling

• Bottom Hole Assembly (BHA); the primary drilling system used to advance boreholes.

• Rotary Core Barrel (RCB); used to obtain continuous cores from hard rock formations.

• Advanced Piston Corer (APC); used to obtain continuous and relatively undisturbed cores from very soft to firm sediments.

• Extended Core Barrel (XCB); used to obtain continuous cores from soft to moderately hard formations.

• Pressure Core Sampler (PCS); used to retrieve core samples from the seafloor while maintaining insitu pressures.

• Advanced Diamond Core Barrel (ADCB); used to obtain continuous cores from firm to well lithified sedimentary or ingenious formations.

• Drill-In-Casing (DIC) System: Used to drill in a short casing string simultaneously with the bit to support an unstable sediment zone to prevent premature loss of the hole or drill string.

• Underreamer, used to drill an enlarged hole to provide clearance for additional casing strings and cement.

• Other coring and sampling capability as developed.

Deployment of Reentry Hardware and Observatories

• Free Fall Funnel (FFF): Used to provide a quick method to reenter the hole to facilitate bit and bottom-hole assembly (BHA) changes; typically installed with seafloor support plate and glass flotation marker balls.

• Hard Rock Reentry System (HRRS): Used to install casing with reentry capability on a sloping or rough hard rock seafloor, typically consisting of a metal funnel and casing.

• Reentry Cone and Casing (RECC): Used as a permanent seafloor installation (or legacy hole) able to support nested casing strings; typically consisting of metal cone; seafloor support plate; transition pipe.

• Circulation Obviation Retrofit Kit (CORK), used to provide a method to characterize temperature and pressure of sub-seafloor hydrology over an open formation interval typically consisting of a reentry cone and casing system; sensor string (pressure gauges, thermistors); and additional scientific instruments.

• Advanced CORK (ACORK) Borehole Observatory, provides a method to isolate multiple zones in a borehole for independent zone investigations.

In Situ Sampling and Testing

• Temperature, pore pressure, gas and fluid compositions, permeability, microbial with instruments such as:

* Advanced Piston Corer Temperature (APCT), an instrumented version of the coring shoe used to obtain formation temperatures to determine the heat flow gradient.

* Davis-Villinger Temperature Probe (DVTP), used to take heat-flow measurements in semi consolidated sediments that are too stiff for the APCT.

* Water Sampling Temperature Probe (WSTP), used to measure temperatures while deployed in the BHA.

* Azimuthal Density Neutron Tool (AND), used to characterize formation porosity and lithology while drilling.

Downhole Logging

• The Multi-Sensor Spectral Gamma Ray Tool (MGT), used to measure natural gamma-ray logs.

• Dipole Sonic Imager (DSI), used to produce a full set of compressional and shear waveforms, cross-dipole shear wave velocities and amplitudes.

• Formation MicroScanner Tool; used to measure formation acoustic velocity, natural gamma ray, and borehole diameter.

• Triple Combo Geophysical Tool String, used to measure standard geophysical parameters.

• Sonic (Isonic) Tool, used to acquire acoustic waveforms.

• Ultrasonic Borehole Imager (UBI), used to provide acoustic images of the borehole.

• Vibration isolation television (VIT) camera system.

• The Well Seismic Tool (WST) is a single axis check shot tool used for zero offset vertical seismic profiles (VSP).

• Kuster Sampler, used to sample fluids.

• Measurement While Drilling (MWD), including Logging While Drilling (LWD, formation resistivity images and density/porosity).

• Pressure-While-Drilling (PWD) Tool String, used to measure formation pressure.

• Conical Sidewall Entry Sub (CSES), used to deploy logging tools along the drill string.

Geophysical Surveying

• Occasional use of geophysical techniques such as limited single-channel seismic surveying to characterize the seafloor and supplement or verify existing geophysical data.

The Programmatic EIS addresses U.S. laws and regulations, as appropriate, including but not necessarily limited to NEPA; the Marine Mammal Protection Act of 1972 (MMPA); the Endangered Species Act of 1973 (ESA); and Executive Order (EO) 12114 (1979), Environmental Effects Abroad of Major Federal Actions. In addition, the assessment addreses foreign regulations, especially where research will be carried out entirely or partially within territorial waters or Exclusive Economic Zone waters surrounding a foreign nation or in international waters subject to the United Nations Law of the Sea or other international agreements.

The Programmatic EIS is designed to view the USIO drilling program as a whole and thereby assembles and analyzes the broadest range of direct, indirect, and cumulative impacts associated with the entire program rather than assessing individual cruises separately. This approach also addresses possible concerns that NSF evaluates regarding each expedition's contribution to the cumulative impacts of the entire program. Further, the Programmatic EIS provides a broad analytical baseline within which NSF, using tiered documents, will be able to analyze and decide upon various cruise-specific activities which could potentially affect biologically sensitive areas. This process enables the NSF to streamline the preparation of subsequent environmental documents for the individual cruises, if needed, and enable NSF to identify any prudent conservation practices and mitigation measures that may be applied across the entire program or applicable to a particular expedition.

Major environmental issues addressed in the Programmatic EIS include the release of any substances from the ship during vessel transit, drilling, and research operations which may affect marine water quality, sea bottom and sediment quality, air quality, acoustic environment, marine biological resources including marine mammals, fish, sea turtles, invertebrates, Essential Fish Habitats (EFH), and threatened and endangered species, commercial and recreational fisheries, marine vessel transportation, and cultural resources.

NSF has evaluated three alternatives in the EIS: (1) The proposed action as dictated by specific scientific research needs and consistent with robust IODP policies; (2) riserless ocean drilling expeditions designed and conducted to meet site-specific scientific objectives, however without input from the IODP Science Advisory Structure process including the review of environmental conditions at each drillsite that may be adversely affected by drilling activities; and (3) the no action alternative.

NSF welcomes comments on mitigation measures to be considered and included in the program that could be used to avoid or substantially reduce the environmental consequences of the proposed action.

NSF will hold public meetings as identified in the Dates and Addresses section of this notice. These meetings will also be advertised in area newspapers. NSF and NMFS representatives will be available at these meetings to receive comments from the public regarding issues of concern to the public. Federal, state, and local agencies and interested individuals are encouraged to take this opportunity to comment on environmental concerns that should be addressed in the Draft Programmatic EIS. Agencies and the public are also invited and encouraged to provide written comments on the Draft Programmatic EIS in addition to, or in lieu of, oral comments at the public meetings. To be most helpful, comments should clearly reference a particular section or pages of the Draft Programmatic EIS and describe issues or topics that the commenter believes should be addressed.

We invite you to learn about NSF's funding of the USIO's role in the Integrated Ocean Drilling Program at the public meeting and provide comments on the Draft Programmatic EIS. The public meeting locations are wheelchair-accessible. If you plan to attend a public meeting and need special assistance such as sign language interpretation or other reasonable accommodation, please notify NSF (see FOR FURTHER INFORMATION CONTACT) at least 3 business days in advance. Include your contact information as well as information about your specific needs.

We request public comments or other relevant information on environmental issues related to the NSF drilling program. The public meetings are not the only opportunity you have to comment. In addition to or in place of attending a meeting, you can submit comments to Dr. James Allan by October 1, 2007. (see FOR FURTHER INFORMATION CONTACT). We request that you include in your comments:

• Your name and address (noting if you would like to receive a copy of the Final Programmatic EIS/OEIS upon completion);

• An explanation for each comment; and

• Include any background materials to support your comments, as you feel necessary.

You may mail or e-mail your comments to NSF (see FOR FURTHER INFORMATION CONTACT). All comment submissions must be unbound, no larger than 8½ by 11 inches, and suitable for copying and electronic scanning. Please note that regardless of the method used for submitting comments or material, all submissions will be publicly available and, therefore, any personal information you provide in your comments will be open for public review. No decision will be made to implement any alternative until the NEPA process is completed.

Dated: August 7, 2007.
James Allan,
Program Director, Ocean Drilling Program, Division of Ocean Sciences, National Science Foundation.

[FR Doc. 07-3949 Filed 8-16-07; 8:45 am]

BILLING CODE 7555-01-M